CONSUMER PRODUCT SAFETY COMMISSION

[Docket No. CPSC-2011-0014]

Submission for OMB Review; Comment Request— Generic Clearance for the Collection of Qualitative Feedback on Agency Service Delivery.

AGENCY: Consumer Product Safety Commission.

ACTION: Notice.

SUMMARY: As required by the Paperwork Reduction Act of 1995 (44 U.S.C. Chapter 35), the Consumer Product Safety Commission (CPSC or Commission) announces that the CPSC has submitted to the Office of Management and Budget (OMB) a request for extension of approval of a collection of information relating to the generic clearance for the collection of qualitative feedback on agency service delivery (OMB No. 3041-0148). In the Federal Register of March 13, 2014 (79 FR 14237), the CPSC published a notice announcing the agency's intent to seek an extension of approval of this collection of information. CPSC received no comments in response to that notice. Therefore, by publication of this notice, the Commission announces that CPSC has submitted to the OMB a request for extension of approval of that collection of information without change.

DATES: Written comments on this request for extension of approval of information collection requirements should be submitted by July 7, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2011-0014.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC seeks to renew the following collection of information:

Title: Generic Clearance for the Collection of Qualitative Feedback on Agency Service Delivery.

Abstract: The information collection activity will garner qualitative customer and stakeholder feedback in an efficient, timely manner, to improve service delivery. Below we provide CPSC's projected average estimates for activities including qualitative surveys, focus groups, customer satisfaction surveys, and usability tests.

Current Actions: Renewal of collection of information.

Type of Review: Renewal.

Affected Public: Individuals and Households, Businesses and Organizations, State, Local or Tribal Government.

Average Expected Annual Number of Activities: Eight activities, including qualitative surveys, focus groups, customer satisfaction surveys, and usability tests.

Annual Number of Respondents: 1,600.

Annual Responses: 1,600.

Frequency of Response: Once per request.

Average Minutes per Response: 45 minutes per response.

Annual Burden Hours: 1,200.

An agency may not conduct or sponsor, and a person is not required to respond to, a collection of information unless it displays a currently valid OMB control number.

Todd A. Stevenson,
Secretary,
Consumer Product Safety Commission.

[FR Doc. 2014-13170 Filed 6-5-14; 8:45 am]

BILLING CODE 6355-01-P